DEPARTMENT OF ENERGY

Federal Energy Regulatory Commission

[Project No. 1988-007; Haas-Kings River Project]

Pacific Gas and Electric Company; Notice of Telephone Conference

April 7, 2000.

On Tuesday, April 18, 2000, the Federal Energy Regulatory Commission (Commission) staff will conduct a telephone conference with representatives of the U.S. Fish and Wildlife Service, the Forest Service, and Pacific Gas and Electric Company to discuss the Biological Assessment for the Haas-Kings River Project, FERC Docket No. 1988-007. The Commission staff will initiate the telephone conference. The telephone conference will begin at 1 p.m. Eastern Daylight Time (10 a.m. Pacific Daylight Time).

The telephone conference will be conducted according to the procedures used at Commission meetings. Meeting minutes will be taken, which will be distributed to interested parties and placed in the Commission's public files for the proceeding.

For further information, please contact Patti Leppert-Slack at the Commission, (202) 219-2767.

David P. Boergers,
Secretary.

[FR Doc. 00-9163 Filed 4-12-00; 8:45 am]

BILLING CODE 6717-01-M